DEPARTMENT OF THE TREASURY

Agency Information Collection Activities; Submission for OMB Review; Comment Request; Multiple Financial Crimes Enforcement Network Information Collection Requests

AGENCY: Departmental Offices, U.S. Department of the Treasury.

ACTION: Notice.

SUMMARY: The Department of the Treasury will submit the following information collection requests to the Office of Management and Budget (OMB) for review and clearance in accordance with the Paperwork Reduction Act of 1995, on or after the date of publication of this notice. The public is invited to submit comments on these requests.

DATES: Comments should be received on or before November 29, 2018 to be assured of consideration.

ADDRESSES: Send comments regarding the burden estimate, or any other aspect of the information collection, including suggestions for reducing the burden, to (1) Office of Information and Regulatory Affairs, Office of Management and Budget, Attention: Desk Officer for Treasury, New Executive Office Building, Room 10235, Washington, DC 20503, or email at OIRA_Submission@OMB.EOP.gov and (2) Treasury PRA Clearance Officer, 1750 Pennsylvania Ave. NW, Suite 8100, Washington, DC 20220, or email at PRA@treasury.gov.

FOR FURTHER INFORMATION CONTACT: Copies of the submissions may be obtained from Jennifer Quintana by emailing PRA@treasury.gov, calling (202) 622-0489, or viewing the entire information collection request at www.reginfo.gov.

SUPPLEMENTARY INFORMATION:

Financial Crimes Enforcement Network (FinCEN)

1. Title: Suspicious Activity Report by Securities and Futures Industries.

OMB Control Number: 1506-0019.

Type of Review: Extension without change of a currently approved collection.

Description: Treasury requires certain securities broker-dealers, futures commission merchants and introducing brokers in commodities to file suspicious activity reports. This renewal pertains to OMB approval of the information collection requirement per se imposed upon brokers or dealers in securities and futures commission merchants and introducing brokers in commodities. OMB approval of the allocated burden hours associated with these requirements (31 CFR 1023.320 and 1026.320), stemming from the submission and record maintenance of the BSARs themselves, is reflected in the burden for the BSAR as approved under OMB Control No. 1506-0065. This splitting in the coverage of the OMB numbers is a result of FinCEN's streamlining of SAR reporting into one a single, unified format. Although the means of reporting was consolidated into a single reporting format covering multiple industry sectors under OMB Control No. 1506-0065, the reporting requirements themselves are still contained in separate rules covered by various OMB control numbers. Consequently, the burden listed in this renewal under control number 1506-0019 is estimated at one response and one hour in order to avoid double-counting the same burdens that have already been included in the estimate under control number 1506-0065.

Form: FinCEN Form 111.

Affected Public: Businesses or other for-profits.

Estimated Number of Respondents: 1.

Frequency of Response: On Occasion.

Estimated Total Number of Annual Responses: 1.

Estimated Time per Response: 1 hour.

Estimated Total Annual Burden Hours: 1 hour.

2. Title: Anti-Money Laundering programs for money services business, mutual funds, operators of credit card systems, and Providers of Prepaid Access.

OMB Control Number: 1506-0020.

Type of Review: Extension without change of a currently approved collection.

Description: Money services businesses, mutual funds, and operators of credit card systems, and providers of prepaid access are required to develop and implement written anti-money laundering program. A copy of the program must be maintained for five years. See 31 CFR 103.125, 103.130, and 103.135.

Form: None.

Affected Public: Businesses or other for-profits.

Estimated Number of Respondents: 327,106.

Frequency of Response: On Occasion.

Estimated Total Number of Annual Responses: 2,910,406.

Estimated Time per Response: 9 minutes.

Estimated Total Annual Burden Hours: 413,216.

3. Title: Correspondent Accounts for Foreign Shell Banks; Record keeping and Termination of Correspondent Accounts.

OMB Control Number: 1506-0043.

Type of Review: Extension without change of a currently approved collection.

Description: These rules prohibit domestic financial institutions from maintaining correspondent accounts with foreign shell banks and require such institutions to maintain records of the owners, and agents, for service of legal process of foreign banks.

Form: None.

Affected Public: Businesses or other for-profits.

Estimated Number of Respondents: 2,000.

Frequency of Response: On Occasion.

Estimated Total Number of Annual Responses: 27,000.

Estimated Time per Response: 11.33 hours.

Estimated Total Annual Burden Hours: 306,000.

Authority: 44 U.S.C. 3501 et seq.

Dated: October 25, 2018.
Spencer W. Clark,
Treasury PRA Clearance Officer.

[FR Doc. 2018-23645 Filed 10-29-18; 8:45 am]

BILLING CODE 4810-02-P